Proclamation 8727 of October 3, 2011

National Domestic Violence Awareness Month, 2011

By the President of the United States of America

A Proclamation

During Domestic Violence Awareness Month, we recognize the significant achievements we have made in reducing domestic violence in America, and we recommit ourselves to the important work still before us. Despite tremendous progress, an average of three women in America die as a result of domestic violence each day. One in four women and one in thirteen men will experience domestic violence in their lifetime. These statistics are even more sobering when we consider that domestic violence often goes unreported.

The ramifications of domestic violence are staggering. Young women are among the most vulnerable, suffering the highest rates of intimate partner violence. Exposure to domestic violence puts our young men and women in danger of long-term physical, psychological, and emotional harm. Children who experience domestic violence are at a higher risk for failure in school, emotional disorders, and substance abuse, and are more likely to perpetuate the cycle of violence themselves later in life.

My Administration is working not only to curb domestic violence, but to bring it to an end. Last year, we announced an unprecedented coordinated strategy across Federal agencies to prevent and stop violence against women. We are empowering survivors to break the cycle of abuse with programs to help them become financially independent. We have prevented victims of domestic violence from being evicted or denied assisted housing after abuse. And we are promoting tools for better enforcement of protective orders, while helping survivors gain access to legal representation.

In addition, as part of the Affordable Care Act, the Department of Health and Human Services announced historic new guidelines that will ensure women receive preventive health services without additional cost, including domestic violence screening and counseling. The Affordable Care Act also ensures that insurance companies can no longer classify domestic violence as a pre-existing condition.

Last December, I reauthorized the Child Abuse Prevention and Treatment Act, giving communities life-saving tools to help identify and treat child abuse or neglect. It also supports shelters, service programs, and the National Domestic Violence Hotline, linking tens of thousands of victims every month to the resources needed to reach safety. I encourage victims, their loved ones, and concerned citizens to use this hotline for more information at 1-800-799-SAFE or visit www.TheHotline.org.

This is not just a job for government; it is a job for all of us. Vice President Joe Biden’s “1is2many” initiative reminds us that everyone has a part to play in ending violence against youth. By engaging men and women, mothers and fathers, and schools and universities in the fight, we can teach our children about healthy relationships. We are asking everyone to play an active role in preventing and ending domestic violence, by stepping up to stop violence when they see it. During National Domestic Violence Awareness Month, we recommit to making sure that no one suffers alone, and to assisting those who need help in reaching a safer tomorrow.

NOW, THEREFORE, I, BARACK OBAMA, President of the United States of America, by virtue of the authority vested in me by the Constitution and the laws of the United States, do hereby proclaim October 2011 as National Domestic Violence Awareness Month. I call on all Americans to speak out against domestic violence and support local efforts to assist victims of these crimes in finding the help and healing they need.

IN WITNESS WHEREOF, I have hereunto set my hand this third day of October, in the year of our Lord two thousand eleven, and of the Independence of the United States of America the two hundred and thirty-sixth.

[FR Doc. 2011-26147

Filed 10-6-11; 8:45 am]

Billing code 3295-F2-P